DEPARTMENT OF TRANSPORTATION

Office of the Secretary

14 CFR Part 331

RIN 2105-AD93

Procedures for Reimbursement of General Aviation Operators and Service Providers in the Washington, DC Area; Removal

AGENCY: Office of the Secretary (OST), Department of Transportation (DOT).

ACTION: Final rule.

SUMMARY: This final rule removes a DOT rule, Procedures for Reimbursement of General Aviation Operators and Service Providers in the Washington, DC Area, 14 CFR Part 331. This rule is being removed because all reimbursements under the program have been made and all program activities completed. The rule established procedures to reimburse eligible fixed-based general aviation operators and providers of ground support services, at five Washington, DC area airports, for direct and incremental financial losses incurred while the airports were closed to general aviation operations solely due to actions of the Federal government after the September 11, 2001 terrorist attacks. The rule implemented a provision in the Department's Fiscal Year 2006 Appropriations Act, which made up to $17 million available for such reimbursements until expended. The rule required applications for reimbursement to be submitted by June 8, 2007. All applications have been processed, payments made, and required releases executed.

DATES: Effective Date: February 2, 2010.

FOR FURTHER INFORMATION CONTACT: Timothy E. Carmody, Transportation Industry Analyst, Office of Aviation Analysis, X-50, 1200 New Jersey Ave., SE., Washington, DC 20590, (202) 366-2348.

SUPPLEMENTARY INFORMATION: On November 30, 2005, the Congress authorized the Department to reimburse eligible fixed-based general aviation operators or providers of general aviation ground support services at five airports in the Washington, DC metropolitan area for direct and incremental losses due to the actions of the Federal Government to close airports to general aviation operations following the terrorist attacks of September 11, 2001. Section 185, Transportation, Treasury, Housing and Urban Development, the Judiciary, the District of Columbia, and Independent Agencies Appropriation Act, 2006, Public Law 109-115, 119 Stat. 2396 (2005) (“Section 185”).

Section 185 further appropriated up to $17 million to reimburse the eligible parties, to be available until expended, and identified the five airports as Ronald Reagan Washington National Airport; College Park Airport in College Park, Maryland; Potomac Airfield in Fort Washington, Maryland; Washington Executive/Hyde Field in Clinton, Maryland; and Washington South Capitol Street Heliport in Washington, DC. Of the total $17 million, the Department was directed to set aside and make available up to $5 million to reimburse eligible operators and providers at College Park, Potomac Airfield, and Hyde Field airports. Section 185 stated various other conditions for reimbursement, among them that those losses incurred as the result of violations of law, or through fault or negligence of such entities or of third parties (including airports) were not eligible for reimbursement, and that the obligation and expenditure of funds were conditional upon full release of the United States Government for all claims for financial losses resulting from such actions.

On October 4, 2006, the Department published in the Federal Register a Notice of Proposed Rulemaking seeking comments on its proposed procedures implementing Section 185 (71 FR 58546 et seq.). Comments were received from 16 submitters. After fully considering all comments, the Department prepared a final rule and published it on April 9, 2007 in the Federal Register (at 72 FR 17381 et seq.). It was codified as 14 CFR Part 331.

The final rule set out eligibility standards for participation; specified the methodology that would be used in determining losses; stated the eligibility periods applicable at each airport; established special procedures for the $5 million set-aside; and provided an application form for reimbursement. The final rule also set a deadline of June 8, 2007 for applications. 14 CFR 331.27. Twenty-one applicants submitted claims for reimbursement, of which 18 were determined to be eligible and to have incurred reimbursable losses. The Department has completed its review of all applications and has reimbursed the eligible claimants for their financial losses in accordance with Section 185. Prior to payment each claimant signed a full release of the United States for all claims of loss due to such actions, as required by section 185.

The Department has completely fulfilled its responsibilities under Section 185 and ceased all actions under the regulations. As a result, 14 CFR Part 331 serves no further purpose and may be removed.

Regulatory Analyses and Notices

A. Administrative Procedure Act

The Department has determined that this rule may be issued without a prior opportunity for notice and comment because providing prior notice and comment would be unnecessary, impracticable, or contrary to the public interest. The final rule limited the period for submitting applications to June 8, 2007. The rule also limited the amount of money available for reimbursement and the scope of potential beneficiaries. Accordingly, there would not be any harm to any identifiable beneficiary by repealing the rule. The Department has completely fulfilled its responsibilities under Section 185 and ceased all actions under the regulations. Thus, this rule should be removed. For the same reasons, the Department finds that there is good cause to make the rule effective immediately.

B. Executive Order 12866 and Regulatory Flexibility Act

The Department has determined that this action is not considered a significant regulatory action for purposes of Executive Order 12866 or the Department's regulatory policies and procedures. This rule is being adopted solely to remove a rule that is no longer necessary due to the Department's fulfillment of statutory responsibilities. Given the absence of compliance costs to anyone, I certify that this final rule does not have a significant economic impact on a substantial number of small entities.

C. Executive Order 13132

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

D. Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

E. Paperwork Reduction Act

This rule contains no information collection requirements under the Paperwork Reduction Act of 1995 (44 U.S.C. 3501-3520).

F. Unfunded Mandates Reform Act

The Department of Transportation has determined that the requirements of Title II of the Unfunded Mandates Reform Act of 1995 do not apply to this rulemaking.

List of Subjects in 14 CFR Part 331

Air carriers.

Authority: Section 185, Transportation, Treasury, Housing and Urban Development, the Judiciary, the District of Columbia, and Independent Agencies Appropriation Act, 2006, Public Law 109-115, 119 Stat. 2396 (2005); 49 U.S.C. 322(a).

Accordingly, under the authority of 119 Stat. 2396 (2005) and 49 U.S.C. 322(a), the Department of Transportation amends 14 CFR chapter 2 by removing part 331:

PART 331—PROCEDURES FOR REIMBURSEMENT OF GENERAL AVIATION OPERATORS AND SERVICE PROVIDERS IN THE WASHINGTON, DC AREA

PART 331—[REMOVED AND RESERVED]

Remove and reserve Part 331, consisting of subparts A through C.

Issued in Washington, DC, on January 25, 2010.
Susan Kurland,
Assistant Secretary for Aviation and International Affairs.

[FR Doc. 2010-2134 Filed 2-1-10; 8:45 am]

BILLING CODE 4910-9X-P